NUCLEAR REGULATORY COMMISSION

[NRC-2017-0068]

Knowledge and Abilities Catalog for Nuclear Power Plant Operators: Pressurized Water Reactors; Knowledge and Abilities Catalog for Nuclear Power Plant Operators: Boiling Water Reactors

AGENCY: Nuclear Regulatory Commission.

ACTION: NUREG; issuance.

SUMMARY: The U.S. Nuclear Regulatory Commission (NRC) is issuing NUREG-1122, Revision 3, “Knowledge and Abilities Catalog for Nuclear Power Plant Operators: Pressurized Water Reactors,” and NUREG-1123, Revision 3, “Knowledge and Abilities Catalog for Nuclear Power Plant Operators: Boiling Water Reactors.”

DATES: NUREG-1122, Revision 3 and NUREG-1223, Revision 3 take effect on September 25, 2020.

ADDRESSES: Please refer to Docket ID NRC-2017-0068 when contacting the NRC about the availability of information regarding this document. You may obtain publicly-available information related to this document using any of the following methods:

• Federal Rulemaking Website: Go to https://www.regulations.gov and search for Docket ID NRC-2017-0068. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. NUREG-1122, Revision 3, “Knowledge and Abilities Catalog for Nuclear Power Plant Operators: Pressurized Water Reactors,” is available in ADAMS under Accession No. ML20260H083 and NUREG-1123, Revision 3, “Knowledge and Abilities Catalog for Nuclear Power Plant Operators: Boiling Water Reactors,” is available in ADAMS under Accession No. ML20260H086.

FOR FURTHER INFORMATION CONTACT: Brian Tindell, Office of Nuclear Reactor Regulation, U.S. Nuclear Regulatory Commission, Washington DC 20555-0001; telephone: 301-415-2026, email: Brian.Tindell@nrc.gov.

SUPPLEMENTARY INFORMATION: The NRC published a notice of the availability of the drafts of NUREG-1122 and NUREG-1123 in the Federal Register on April 14, 2017 (82 FR 18018) for a 30-day public comment period. The public comment period closed on May 15, 2017. The NRC received eight public comments on the drafts of NUREG-1122 and NUREG-1123 and the comments can be found on Regulations.gov under Docket ID NRC-2017-0068.

NUREG-1122, Rev. 3 and NUREG-1123, Rev. 3 provide the basis for the development of content-valid examinations used for the licensing of operators at nuclear power plants under the NRC's regulations contained in title 10 of the Code of Federal Regulations (10 CFR) part 55, “Operators' Licenses.” The examinations developed using NUREG-1122 and NUREG-1123, along with NUREG-1021, “Operator Licensing Examination Standards for Power Reactors,” will sample the topics listed in 10 CFR part 55.

Dated: September 22, 2020.
For the Nuclear Regulatory Commission.
Christian B. Cowdrey,
Chief, Operator Licensing and Human Factors Branch, Division of Reactor Oversight, Office of Nuclear Reactor Regulation.

[FR Doc. 2020-21197 Filed 9-24-20; 8:45 am]

BILLING CODE 7590-01-P